DEPARTMENT OF COMMERCE

National Oceanic and Atmospheric Administration

[I.D. 072403B]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Herring Advisory Panel in August, 2003.

DATES: The meeting will held on Wednesday, August 20, 2003, at 10 a.m.

ADDRESSES: The meeting will be held at the Sheraton South Portland, 363 Main Mall Road, South Portland, ME 04106; telephone: (207) 775-6161.

Council address: New England Fishery Management Council, 50 Water Street, Newburyport, MA 01950.

FOR FURTHER INFORMATION CONTACT: Paul J. Howard, Executive Director, New England Fishery Management Council (978) 465-0492.

SUPPLEMENTARY INFORMATION: The panel will review progress to date on development of alternatives for analysis in Amendment 1 to the Herring Fishery Management Plan (FMP). They will also develop Advisory Panel recommendations for the Herring Committee to consider regarding the range of alternatives for analysis in Amendment 1.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: July 25, 2003.
Richard W. Surdi,
Acting Director, Office of Sustainable Fisheries, National Marine Fisheries Service.

[FR Doc. 03-19518 Filed 7-30-03; 8:45 am]

BILLING CODE 3510-22-S